DEPARTMENT OF ENERGY

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995.

DATES: Comments regarding this proposed information collection must be received on or before May 1, 2018. If you anticipate difficulty in submitting comments within that period, contact the person listed in ADDRESSES as soon as possible.

ADDRESSES: Jay Wrobel, EE-5A/Forrestal Building, 1000 Independence Avenue SW, Washington, DC 20585, by fax at 202-586-9234, or by email at chp@ee.doe.gov.

FOR FURTHER INFORMATION CONTACT: Requests for additional information should be directed to Jay Wrobel, EE-5A/Forrestal Building, 1000 Independence Avenue SW, Washington, DC 20585, by fax at 202-586-9234, or by email at chp@ee.doe.gov.

SUPPLEMENTARY INFORMATION: This information collection request contains:

(1) OMB No.: 1910—NEW;

(2) Information Collection Request Title: Combined Heat and Power (CHP) Packaged System e-Catalog (e-Catalog);

(3) Type of Request: New;

(4) Purpose: DOE's “CHP Technical Potential in the U.S.” shows significant technical potential in commercial buildings and industrial facilities in the < 10MW size range. Due to building characteristic similarities, this size range is particularly disposed to standardization of CHP systems. The e-Catalog creates a mechanism to take advantage of this standardization including the risk and cost reduction that are expected to ensue. This request for information consists of a voluntary data collection process for e-Catalog participation: To enroll CHP packagers and CHP solutions providers; develop an e-Catalog of packaged CHP systems; and relay the benefits of packaged CHP system performance to industry. Typical respondents are expected to be CHP project developers, CHP designers and packagers, and state and local energy program offices. Each respondent should have experience with compiling the data requested. Participation in the e-Catalog is voluntary, and it is expected that respondents would already have access to the information requested in this collection.

There are four types of information to be collected from primary participants: (1) Background data, including contact information and basic information about the CHP packager's experience with CHP design, durability and performance testing—collected in the CHP Packager Enrollment Form; (2) Background data, including contact information and basic information about the CHP solutions provider's experience with CHP design, durability and performance testing, installation, operation and maintenance—collected in the CHP Solutions Provider Enrolment Form; (3) contact information and program description of market engagement programs that support Packaged CHP systems—collected in the Market Engagement Registration Form; and (4) Information, including packaged system component descriptions, design data, full-load and part-load performance data at three ambient conditions—collected in Packaged CHP System Application Form; Background data will primarily be used as a means to recognize CHP packers and solution providers, and establish the e-Catalog.

(5) Annual Estimated Number of Respondents: 50;

(6) Annual Estimated Number of Total Responses: 177;

(7) Annual Estimated Number of Burden Hours: 739;

(8) Annual Estimated Reporting and Recordkeeping Cost Burden: $30,506.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Authority: Energy Policy Act of 2005 sec 911—Energy Efficiency and sec 106 Voluntary Commitments to Reduce Industrial Energy Intensity.

Issued in Washington, DC on February 21, 2018.
Rob Ivester,
Director, Advanced Manufacturing Office, Technical Partnerships.

[FR Doc. 2018-04286 Filed 3-1-18; 8:45 am]

BILLING CODE 6450-01-P